DEPARTMENT OF ENERGY

[GDO Docket No. EA-97-E]

Application for Renewal of Authorization To Export Electric Energy; Portland General Electric Company

AGENCY: Grid Deployment Office, Department of Energy.

ACTION: Notice of application.

SUMMARY: Portland General Electric Company (the Applicant or PGE) has applied for renewed authorization to transmit electric energy from the United States to Canada pursuant to the Federal Power Act.

DATES: Comments, protests, or motions to intervene must be submitted on or before June 24, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On April 29, 1994, DOE issued Order No. EA-97 authorizing PGE to transmit electric energy from the United States to Canada as a power marketer for a period of two years. DOE renewed this authority in 1996 (Order No. EA-97-A), 1998 (Order No. EA- 97-B), 2004 (Order No. EA- 97-C), and 2014 (Order No. EA-97-D). On April 19, 2024, PGE filed an application with DOE (Application or App.) for renewal of its export authority for a ten-year term. App. at 1.

In its Application, PGE states that it is “authorized to do business in the State of Oregon, with its principal place of business located at 121 SW Salmon Street, Portland, Oregon 97204.” App. at 2. According to the Application, PGE “owns generation, transmission, and distribution facilities for service to wholesale and retail customers, and it buys and sells power in the Western energy wholesale market.” Id. PGE states it is “authorized by the FERC to sell, at market-based rates, electric capacity and/or energy, and ancillary services.” Id. The Applicant explains it “lacks market-based rate authority in the PGE Balancing Authority Area, except for sales in the Energy Imbalance Market operated by the California Independent System Operator Corporation[.]” Id.

PGE represents that its “sale of electric energy under this [authorization] has not and will neither impair the sufficiency of electric supply within the United States nor would it impede or tend to impede the coordination in the public interest of facilities subject to the jurisdiction of DOE.” App. at 4. The Applicant states that it “has no intention to engage in exports which could result in a detriment to the U.S. electrical system or undermine PGE's ability to reliably serve its customers.” Id. at 5-6.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning PGE's Application should be clearly marked with GDO Docket No. EA-97-E. Additional copies are to be provided directly to David White, Portland General Electric Company, 121 SW Salmon Street, 1WTC 1301, Portland, OR 97204, david.white@pgn.com, and Jenny Mackie, Portland General Electric Company, 121 SW Salmon Street, IOC, Portland, OR 97204, jenny.mackie@pgn.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on May 21, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 21, 2024.
Treena V. Garrett,
Federal Register Liaison Officer, U.S. Department of Energy.

[FR Doc. 2024-11498 Filed 5-23-24; 8:45 am]

BILLING CODE 6450-01-P